DEPARTMENT OF AGRICULTURE

Forest Service

Lower Tucannon Ecosystem Management Project, Umatilla National Forest, Columbia County, WA

AGENCY: Forest Service, USDA.

ACTION: Cancellation notice.

SUMMARY: On July 9, 2003, a Notice of Intent (NOI) to prepare an environmental impact statement (EIS) for the Lower Tucannon Ecosystem Management Project on the Pomeroy Ranger District of the Umatilla National Forest, was published in the Federal Register (68 FR 40900). The Forest Service has decided to cancel the preparation of this EIS. The NOI is herby rescinded.

FOR FURTHER INFORMATION CONTACT: Questions maybe addressed to Dean Millett, Timber Management Assistant, Pomeroy Ranger District, 71 West Main Street, Pomeroy, WA 99374, telephone 509-843-1891.

Dated: January 3, 2006.
Kevin Martin,
Forest Supervisor.

[FR Doc. 06-146 Filed 1-6-06; 8:45am]

BILLING CODE 3410-11-M